FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records, entitled BGFRS-3, “FRB—Medical Records.” BGFRS-3 includes information relating to medical examinations and drug testing of current and prospective employees, and any other medical-related information that may be submitted by employees, contractors, candidates for Board employment, and members of the public.

DATES: Comments must be received on or before October 27, 2022. This new system of records will become effective October 27, 2022, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-3, “FRB—Medical Records,” by any of the following methods:

• Agency website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted. Accordingly, comments will not be edited to remove any identifying or contact information. Public comments may also be viewed electronically and in-person in Room M-4365A, 2001 C St. NW, Washington, DC 20551, between 9:00 a.m. and 5:00 p.m. during federal business weekdays.

FOR FURTHER INFORMATION CONTACT: David B. Husband, Senior Counsel, (202) 530-6270, or david.b.husband@frb.gov, Legal Division, Board of Governors of the Federal Reserve System, 20th Street and Constitution Avenue NW, Washington, DC 20551. If you are deaf, hard of hearing, or have a speech disability, please dial 7-1-1 to access telecommunication relay services.

SUPPLEMENTARY INFORMATION: The Board is modifying this system of records to reflect that the Board has eliminated its in-house health unit and to further clarify the scope of the records included in the system. Specifically, the Board is updating the “Categories of Records in the System” section as follows: (a) to remove the outdated references to the collection of information by the Board's Health Unit, which is now defunct; (b) to clarify that the system includes any medical records that an employee, contractor, applicant, or other individual may provide directly to the Board, including medical records relating to certain sick leave and other leave requests and reasonable accommodation requests; (c) to remove the reference to records relating to employees' workers' compensation claims, as those records are maintained by the Department of Labor's Office of Workers' Compensation Programs; (d) to remove the reference to records regarding employees' use of the Board's exercise facilities as the Board does not collect such medical information; and (e) to remove the unclear and redundant reference to records regarding employees' participation in an occupational health services program. In light of these changes, the Board has made corresponding revisions to system's purpose, categories of individuals covered by the system, and the policies and practices for retention and disposal of records section.

The Board is also making general updates to the system. Specifically, the Board is updating the system location, the system manager, the authority for maintenance of the system, the record source categories, and the policies and practices for storage of records. The Board is also taking the opportunity to update the “Routine Uses” section to incorporate a link to the Board's general routine uses. The Board is not amending or establishing any new routine uses.

The Board is also making technical changes to BGFRS-3 consistent with the template laid out in OMB Circular No. A-108. Accordingly, the Board is making technical corrections and non-substantive language revisions to the following categories: “Policies and Practices for Storage of Records,“Policies and Practices for Retrieval of Records,” “Policies and Practices for Retention and Disposal of Records,” “Administrative, Technical and Physical Safeguards,” “Record Access Procedures,” “Contesting Record Procedures,” and “Notification Procedures.” The Board is also adding the following new fields: “Security Classification” and “History.”

SYSTEM NAME AND NUMBER:

BGFRS-3 “FRB—Medical Records”.

SECURITY CLASSIFICATION:

Unclassified.

SYSTEM LOCATION:

Human Resources, Management Division, Board of Governors of the Federal Reserve System, 20th Street and Constitution Avenue NW, Washington, DC 20551. Certain records are also maintained on the Board's behalf by Medical Advisory Services, 1140 19th Street NW, Suite 700, Washington, DC 20036 and Workpartners, 600 Grant Street, 8th Floor, Pittsburgh, PA 15219.

SYSTEM MANAGER:

John Forbes, Program Manager—Employee Life, Human Resources, Management Division, Board of Governors of the Federal Reserve System, 20th Street and Constitution Avenue NW, Washington, DC 20551, (202) 974-7052, or john.b.forbes@frb.gov.

AUTHORITY FOR MAINTENANCE OF THE SYSTEM:

Sections 10 and 11 of the Federal Reserve Act (12 U.S.C. 244 and 248).

PURPOSE(S) OF THE SYSTEM:

These records are collected and maintained to assist the Board in determining an employee's fitness for duty and eligibility for benefits based on medical information, to respond to reasonable accommodation requests, to assist the Board in providing a safe and healthy working environment, and to comply with Executive Order 12564, Drug-Free Federal Workplace.

CATEGORIES OF INDIVIDUALS COVERED BY THE SYSTEM:

Past and present Board employees, contractors, candidates for Board employment, and members of the public.

CATEGORIES OF RECORDS IN THE SYSTEM:

The majority of records are maintained by the Board's vendor on behalf of the Board and relate to occupational medical examinations of current and prospective employees, including employees subject to fit-for-duty requirements, and the drug testing of current and prospective employees under the Board's Drug-Free Workplace Plan. The Board's vendor also maintains historical records relating to the preventive health screenings that the Board previously offered employees through its now-defunct in-house health unit. The Board's Management Division maintains medical records that an employee, contractor, applicant, or other individual may provide directly to the Board, including records relating to certain sick leave and other leave requests and reasonable accommodation requests. The Management Division also maintains information regarding any failed drug testing administered by the Board's vendor and information regarding whether an employee or applicant has passed or failed the medical examinations administered by the Board's vendor.

RECORD SOURCE CATEGORIES:

Information may be provided by the individual to whom the record pertains, medical professionals, and diagnostic laboratories.

ROUTINE USES OF RECORDS MAINTAINED IN THE SYSTEM, INCLUDING CATEGORIES OF USERS AND PURPOSES OF SUCH USES:

General routine uses A, B, C, D, F, G, H, I, and J apply to this system. These general routine uses are located at https://www.federalreserve.gov/files/SORN-page-general-routine-uses-of-board-systems-of-records.pdf and are published in the Federal Register at 83 FR 43872 at 43873-74 (August 28, 2018). Employee medical information that is obtained under the Rehabilitation Act may be used only in accordance with the confidentiality provisions of the Rehabilitation Act. Records may also be used:

1. To disclose information to the Board's Thrift Plan, the Board's Group Life Insurance administrators, the Department of Labor, Department of Veterans Affairs, Social Security Administration, Federal Retirement Thrift Investment Board, or a national, state, or local Social Security-type agency, when necessary to adjudicate a claim (filed by or on behalf of the individual) under a retirement, insurance, or health benefit program;

2. To disclose information to a federal, state, or local agency to the extent necessary to comply with laws governing reporting of communicable disease or when it is reasonably believed that an individual might have contracted an illness or been exposed to or suffered from a health hazard while employed in the federal workforce;

3. To disclose to health insurance carriers that provide a health benefits plan under the Federal Employees Health Benefits Program information that is necessary to verify eligibility for payment of a claim for health benefits; and

4. To disclose information to the executor of an individual's estate, the government entity probating a will, a designated beneficiary, or to any person who is responsible for the care of an individual to the extent necessary when the individual to whom a record pertains is deceased, mentally incompetent, or under other legal disability, and to disclose information to an individual's emergency contact, or, if the emergency contact is unavailable, to any person who the Board believes is assisting the individual, when necessary to assist that individual in obtaining any employment benefit or any working condition, such as an accommodation under the Rehabilitation Act of 1973.

POLICIES AND PRACTICES FOR STORAGE OF RECORDS:

Paper records in this system are stored in locked file cabinets with access limited to staff with a need to know. Electronic records are stored on secure servers with access limited to staff with a need to know.

POLICIES AND PRACTICES FOR RETRIEVAL OF RECORDS:

Records can be retrieved by name.

POLICIES AND PRACTICES FOR RETENTION AND DISPOSAL OF RECORDS:

Records pertaining to occupational medical examination of employees are retained for 30 years after the employee's separation or when the Official Personnel Folder (OPF) is destroyed, whichever is longer. All medical records of applicants who do not become Board employees are destroyed 3 years after the end of the year in which the position is filled or the vacancy announcement is closed, whichever is later, unless longer retention is authorized for business use. Medical records relating to reasonable accommodation requests are retained 3 years after employee separation from the Board or when all appeals are concluded whichever is later, but longer retention is authorized if required for business use. Records of positive drug test results in connection with drug testing of employees are destroyed when the employee leaves the Board or when 3 years old, whichever is later. Other medical records are generally destroyed when 3 years old in accordance with applicable records schedules.

ADMINISTRATIVE, TECHNICAL, AND PHYSICAL SAFEGUARDS:

Electronic files are stored on secure servers. The system has the ability to track individual user actions within the system. The audit and accountability controls are based on NIST and Board standards which, in turn, are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—

Secretary of the Board, Board of Governors of the Federal Reserve System, 20th Street and Constitution Avenue NW, Washington, DC 20551

You may also submit your Privacy Act request electronically by using the Board's request portal at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

None.

HISTORY:

This SORN was previously published in the Federal Register at 73 FR 24984 at 24988 (May 6, 2008). The SORN was also amended to incorporate two new routine uses required by OMB at 83 FR 43872 (August 28, 2018).

Board of Governors of the Federal Reserve System.
Ann E. Misback,
Secretary of the Board.

[FR Doc. 2022-20887 Filed 9-26-22; 8:45 am]

BILLING CODE P